FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 12, 2002.

A. Federal Reserve Bank of Richmond (A. Linwood Gill, III, Vice President) 701 East Byrd Street, Richmond, Virginia 23261-4528:

1. Mr. C. Edward Floyd, Florence, South Carolina; to acquire additional voting shares of Sun Bancshares, Murrells Inlet, South Carolina, and thereby indirectly acquire addition voting shares of SunBank, National Association, Murrells Inlet, South Carolina.

Board of Governors of the Federal Reserve System, February 20, 2002.
Robert deV. Frierson,
Deputy Secretary of the Board.

[FR Doc. 02-4491 Filed 2-25-02; 8:45 am]

BILLING CODE 6210-01-S